DEPARTMENT OF COMMERCE

International Trade Administration

[C-489-817]

Certain Oil Country Tubular Goods From the Republic of Türkiye: Final Results of Countervailing Duty Administrative Review; 2022

AGENCY: Enforcement and Compliance, International Trade Administration, Department of Commerce.

SUMMARY: The U.S. Department of Commerce (Commerce) determines that certain exporters/producers of oil country tubular goods (OCTG) from the Republic of Türkiye (Türkiye) received countervailable subsidies during the period of review (POR) January 1, 2022, through December 31, 2022.

DATES: Applicable July 11, 2025.

FOR FURTHER INFORMATION CONTACT: Suresh Maniam or Michael Romani, AD/CVD Operations, Office I, Enforcement and Compliance, International Trade Administration, U.S. Department of Commerce, 1401 Constitution Avenue NW, Washington, DC 20230; telephone: (202) 482-1603 or (202) 482-0198, respectively.

SUPPLEMENTARY INFORMATION:

Background

On October 9, 2024, Commerce published the Preliminary Results of this administrative review in the Federal Register and invited comments from interested parties.¹ On December 9, 2024, Commerce tolled certain deadlines in this administrative proceeding by 90 days.² On April 15, 2025, we extended the final results by 60 days.³ Accordingly, the deadline for the final results is now July 7, 2025.

¹ See Oil Country Tubular Goods from the Republic of Turkey: Preliminary Results and Partial Rescission of Countervailing Duty Administrative Review; 2022, 89 FR 81884 (October 9, 2024) (Preliminary Results), and accompanying Preliminary Decision Memorandum.

² See Memorandum, “Tolling of Deadlines for Antidumping and Countervailing Duty Proceedings,” dated December 9, 2024.

³ See Memorandum, “Extension of Deadline for Final Results,” dated April 15, 2025.

For a complete description of the events that occurred since the Preliminary Results, see the Issues and Decision Memorandum.⁴ Commerce conducted this review in accordance with section 751(a)(1)(A) of the Tariff Act of 1930, as amended (the Act).

⁴ See Memorandum, “Issues and Decision Memorandum for the Final Results of the Administrative Review of the Countervailing Duty Order of Certain Oil Country Tubular Goods from the Republic of Türkiye; 2022,” dated concurrently with, and hereby adopted by, this notice (Issues and Decision Memorandum).

Scope of the Order

The products covered by the Order are OCTG from Türkiye. For a full description of the scope of the order, see the Issues and Decision Memorandum.

Analysis of Comments Received

All issues raised by interested parties in case briefs are addressed in the Issues and Decision Memorandum.⁵ The topics discussed and the issues raised by parties to which we responded in the Issues and Decision Memorandum are listed in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁵ No parties filed rebuttal briefs.

Changes Since the Preliminary Results

Based on our analysis of comments received from interested parties, we made changes to the net countervailable subsidy rates for Borusan Mannesmann Boru Sanayi ve Ticaret A.S. and Çayirova Boru Sanayi ve Ticaret A.Ş. For a discussion of these changes, see the Issues and Decision Memorandum.

Methodology

Commerce conducted this review in accordance with section 751(a)(1)(A) of the Tariff Act of 1930, as amended (the Act). For each of the subsidy programs found to be countervailable, we determine that there is a subsidy, i.e., a government-provided financial contribution that gives rise to a benefit to the recipient, and that the subsidy is specific.⁶ For a full description of the methodology underlying all of Commerce's conclusions, see the Issues and Decision Memorandum.

⁶ See sections 771(5)(B) and (D) of the Act regarding financial contribution; section 771(5)(E) of the Act regarding benefit; and section 771(5A) of the Act regarding specificity.

Final Results of Administrative Review

Commerce determined the following net countervailable subsidy rates exist for the period January 1, 2022, through December 31, 2022:

Producer/exporter | Subsidy rate (percent ad valorem)
Borusan Mannesmann Boru Sanayi ve Ticaret A.S.⁷ | 1.55
Çayirova Boru Sanayi ve Ticaret A.Ş.⁸ | 1.01

Disclosure

Commerce intends to disclose the calculations and analysis performed for these final results of review within five days of the date of publication of this notice in the Federal Register, in accordance with 19 CFR 351.224(b).

⁷ Commerce found the following companies to be cross-owned with Borusan Mannesmann Boru Sanayi ve Ticaret A.S.: Borusan Mannesmann Boru Yatirim Holding and Borusan Holding A.S.

⁸ Commerce found the following companies to be cross-owned with Çayirova Boru Sanayi ve Ticaret A.Ş.: Yücelboru Ihracat Ithalat ve Pazarlama A.Ş.

Assessment

In accordance with section 751(a)(2)(C) of the Act and 19 CFR 351.212(b)(2), Commerce shall determine, and U.S. Customs and Border Protection (CBP) shall assess, countervailing duties on all appropriate entries covered by this review. Commerce intends to issue assessment instructions to CBP no earlier than 35 days after publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(1) and (a)(2)(C) of the Act, Commerce also intends to instruct CBP to collect cash deposits of estimated countervailing duties in the amounts shown above for the companies listed above for shipments of subject merchandise entered, or withdrawn from warehouse, for consumption on or after the date of publication of these final results of review. For all non-reviewed firms, we will instruct CBP to continue to collect cash deposits of estimated countervailing duties at the all-others rate or the most recent company-specific rate applicable to the company, as appropriate. These cash deposit requirements, when imposed, shall remain in effect until further notice.

Administrative Protective Order

This notice also serves as a final reminder to parties subject to an administrative protective order (APO) of their responsibility concerning the destruction of proprietary information disclosed under APO in accordance with 19 CFR 351.305(a)(3). Timely written notification of the return or destruction of APO materials or conversion to judicial protective order, is hereby requested. Failure to comply with the regulations and terms of an APO is a violation subject to sanction.

Notification to Interested Parties

These final results are issued and published in accordance with sections 751(a)(1) and 777(i)(1) of the Act and 19 CFR 351.221(b)(5).

Dated: July 7, 2025.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Order

IV. Changes Since the Preliminary Results

V. Subsidies Valuation

VI. Analysis of Programs

VII. Discussion of the Issues

Comment 1: Whether Commerce Should Exclude Value Added Tax (VAT) in Borusan's Hot-Rolled Steel for Less than Adequate Remuneration (LTAR) Calculations

Comment 2: Whether Commerce Unlawfully Set Negative Benefits to Zero in Borusan's Hot-Rolled Steel for LTAR Calculations

Comment 3: Whether the Bank and Insurance Transactions Tax (BITT)—Tax Exemption for Export Loans Program is Countervailable

Comment 4: Whether Commerce Made Certain Calculation Errors for Çayirova and Listed Incorrect Total Subsidy Rates in its Preliminary Results

VIII. Recommendation

[FR Doc. 2025-12933 Filed 7-10-25; 8:45 am]

BILLING CODE 3510-DS-P